DEPARTMENT OF THE INTERIOR

Bureau of Land Management

[LLCAD00000 L19900000.AL0000]

Field Office Relocation

AGENCY: Bureau of Land Management, Interior.

ACTION: Notice of Relocation of the Bureau of Land Management's Palms Springs-South Coast Field Office in Palm Springs, CA.

SUMMARY: The Bureau of Land Management's (BLM) Palm Springs-South Coast Field Office moved from 690 W. Garnet Avenue in North Palm Springs to a new building located at 1201 Bird Center Drive in Palm Springs. The BLM officially closed the office located on W. Garnet at 4:30 p.m., Friday, January 30 and reopened at the new office on Monday February 9, 2009.

The new telephone number is: 760-833-7100.

Directions to the new BLM office: From I-10, take Gene Autry Trail exit and go south approximately three miles. Turn left on Tachevah and then left onto Bird Center Dr. The new address is: Bureau of Land Management, Palm Springs-South Coast Field Office, 1201 Bird Center Drive, Palm Springs, CA 92262.

FOR FURTHER INFORMATION CONTACT: Doris Ray, BLM Palm Springs-South Coast Field Office at (760) 833-7100.

Dated: February 3, 2009.
Karen Barnette,
Deputy State Director, Support Services.

[FR Doc. E9-3545 Filed 2-18-09; 8:45 am]

BILLING CODE 4310-$$-P